DEPARTMENT OF HOMELAND SECURITY

Coast Guard

[Docket No. USCG-2011-0049; Docket No. USCG-2015-0138]

Merchant Marine Personnel Advisory Committee; Merchant Mariner Medical Advisory Committee

AGENCY: Coast Guard, Department of Homeland Security.

ACTION: Notice of Federal Advisory Committee meetings; update.

SUMMARY: The Coast Guard published in the Federal Register on Friday, March 6, 2015, two meeting notices announcing the Merchant Marine Personnel Advisory Committee and Merchant Mariner Medical Advisory Committee. This notice corrects the previous notices to add an explanation for why 15-days advance notice was not given as required by the Federal Advisory Committee Act regulations. All other information regarding the meetings has not changed.

DATES: The Merchant Mariner Medical Advisory Committee met on Monday, March 16 and Tuesday, March 17, 2015, from 8 a.m. to 5 p.m. The Merchant Marine Personnel Advisory Committee working groups are scheduled to meet on March 18, 2015, from 8 a.m. until 4 p.m., and the full Committee is scheduled to meet on March 19, 2015, from 8 a.m. until 4 p.m.

FOR FURTHER INFORMATION CONTACT: Lieutenant Ashley Holm, Alternate Designated Federal Officer for Merchant Mariner Medical Advisory Committee, telephone 202-372-1128 or email Ashley.F.Holm@uscg.mil and Davis Breyer, Alternate Designated Federal Officer for Merchant Marine Personnel Advisory Committee, telephone 202-372-1445 or email Davis.J.Breyer@uscg.mil.

SUPPLEMENTARY INFORMATION: On March 6, 2015, the Coast Guard published two notices of Federal Advisory Committee Act meetings in the Federal Register. 80 FR 12187. These notices announced the meeting dates and information for the Merchant Marine Personnel Advisory Committee and Merchant Mariner Medical Advisory Committee, respectively. This update to those notices does not change any meeting dates or information provided in the original notices, which can be found at 80 FR 12187.

General Services Administration rules, Title 41, Code of Federal Regulations, § 102-365(b) requires meeting notices to be published at least 15 calendar days prior to an advisory committee meeting. In exceptional circumstances, the agency may provide notice in less than 15 calendar days but the agency must provide a reason as to why the notice is being published in less than 15 calendar days. This notice serves to provide the reasoning required by regulation as to why the Merchant Marine Personnel Advisory Committee and Merchant Mariner Medical Advisory Committee meeting notices were published in less than 15 calendar days prior to their respective meetings.

In the weeks leading up to the meetings, the Department of Homeland Security dedicated many of its resources to potential lapse in appropriation issues. Because of the redirection of resources to support the potential shutdown, the publication of the meeting notices for the Merchant Marine Personnel Advisory Committee and Merchant Mariner Medical Advisory Committee were delayed.

Dated: March 13, 2015.
J.C. Burton,
Captain, U.S. Coast Guard, Director of Inspections and Compliance.

[FR Doc. 2015-06255 Filed 3-18-15; 8:45 am]

BILLING CODE 9110-04-P